DEPARTMENT OF TRANSPORTATION

Federal Aviation Administration

14 CFR Part 71

[Airspace Docket No. 00-ACE-35]

Amendment to Class E Airspace; Omaha, NE; Collection

AGENCY: Federal Aviation Administration, DOT.

ACTION: Direct final rule; confirmation of effective date and correction.

SUMMARY: This document confirms the effective date of a direct final rule which revises Class E airspace at Omaha, NE, and corrects an error in the airspace designation as published in the Federal Register on January 31, 2001 (66 FR 8361)

EFFECTIVE DATE: 0901 UTC, May 17, 2001.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION: The FAA published this direct final rule with a request for comments in the Federal Register on January 31, 2001 (66 FR 8361, Airspace Docket No. 00-ACE-35). An error was subsequently discovered that the airspace designation of Council Bluffs, IA should be Omaha, NE. This action corrects that error. The FAA uses the direct final rulemaking procedure for a non-controversial rule where the FAA believes that there will be no adverse public comment. This direct final rule advised the public that no adverse comments were anticipated, and that unless a written adverse comment, or a written notice of intent to submit such an adverse comment, were received within the comment period the regulation would become effective on May 17, 2001. No adverse comments were received, and thus this notice confirms that this direct final rule will become effective on that date.

Correction to the Direct Final Rule

Accordingly, pursuant to the authority delegated to me, the Class E airspace designation as published in the Federal Register on January 31, 2001 (66 FR 8361), (Federal Register Document 01-1548; page 8361, column 1 and page 8362, column 1), is corrected as follows:

§ 71.1 [Corrected]

* * * * *

ACE NE E5 Omaha, NE [Corrected]

On page 8361, in the first column, line six, correct the airspace designation by removing “Council Bluffs, IA” and adding “Omaha, NE.” On page 8362, in the first column, line 30, correct the airspace designation by removing “ACE IA E5 Council Bluffs, IA [Revised]” and adding “ACE NE E5 Omaha, NE [Revised].”

* * * * *

Issued in Kansas City, MO on March 15, 2001.
H.J. Lyons, Jr.,
Manager, Air Traffic Division, Central Region.

[FR Doc. 01-7955 Filed 3-29-01; 8:45 am]

BILLING CODE 4810-13-M